DEPARTMENT OF THE INTERIOR

Bureau of Land Management

[WY-040-00-2822-JL]

Emergency Motor Vehicle Closure of BLM-Administered Public Lands, Sweetwater County, Wyoming; Correction

AGENCY: Bureau of Land Management, Interior.

ACTION: Notice of Motor Vehicle Closure of BLM-Administered Public Land Disturbed or Damaged by Wildfire Suppression Activity Within the Wildhorse Basin Wildfire, Black Butte Wildfire, Sage Creek Wildfire, and Sheep Mountain Wildfire areas; BLM Rock Spring Field Office, Wyoming; correction.

SUMMARY: The Bureau of Land Management published a document in the Federal Register on August 31, 2000, in FR doc. 00-22288, concerning closure of public lands. The document contained incorrect words.

FOR FURTHER INFORMATION CONTACT: Stan McKee, Field Manager, Rock Springs Field Office, 280 Highway 191 North, Rock Springs, Wyoming 82901. Telephone: (307) 352-0201.

Correction

In the Federal Register of August 31, 2000, in FR doc. 00-22288, on page 53029, in the second column, in the SUMMARY, correct lines 2 and 3 to read: “that, effective immediately, all tracks and land surface disturbance made by fire.”

Dated: September 6, 2000.
Ted A. Murphy,
Assistant Field Manager, Minerals and Lands.

[FR Doc. 00-23468 Filed 9-12-00; 8:45 am]

BILLING CODE 4310-22-P